DEPARTMENT OF AGRICULTURE

Forest Service

Tuolumne County Resource Advisory Committee

AGENCY: Forest Service, USDA.

ACTION: Notice of meeting.

SUMMARY: The Tuolumne County Resource Advisory Committee will meet on July 14, 2003 at the City of Sonora Fire Department, in Sonora, California. The purpose of the meeting is to review in detail projects submitted by members of the community, based on presentations made by project proponents, and follow-up question and answer sessions.

DATES: The meeting will be held July 14, 2003, from 12 p.m. to 3 p.m.

ADDRESSES: The meeting will be held at the Sonora Fire Department located at 201 South Shepherd Street, in Sonora, California (CA 95370).

FOR FURTHER INFORMATION CONTACT: Pat Kaunert, Committee Coordinator, USDA, Stanislaus National Forest, 19777 Greenley Road, Sonora, CA 95370 (209) 532-3671; EMAIL pkaundert@fs.fed.us.

SUPPLEMENTARY INFORMATION: Agenda items to be covered include: (1) Presentation of nine community project submittals by the project proponents, with follow-up question and answer sessions. Time allocated for each presentation and question/answer session is 15 minutes; and, (2) Public comment on meeting proceedings. This meeting is open to the public.

Dated: June 24, 2003.
Tom Quinn,
Forest Supervisor.

[FR Doc. 03-18114 Filed 7-16-03; 8:45 am]

BILLING CODE 3410-ED-M